DEPARTMENT OF AGRICULTURE

Commodity Credit Corporation

Request for Approval of a New Information Collection; Long Term Contracting System (LTCS)

AGENCY: Farm Service Agency, Commodity Credit Corporation, USDA.

ACTION: Notice; request for comments.

SUMMARY: In accordance with the Paperwork Reduction Act of 1995 (PRA), the United States Department of Agriculture (USDA), Farm Service Agency (FSA), Kansas City Commodity Office (KCCO) is seeking comments from all interested individuals and organizations regarding a new information collection. This collection is necessary for the procurement of agricultural commodities by KCCO for USDA's domestic feeding programs. Vendors bidding on long-term invitations will complete and submit their offers on-line through LTCS, which will record the system date/time that the offer was submitted and will ensure that the data remains secured within the system until bid opening time.

DATES: Comments on this notice must be received on or before February 7, 2005, to be assured consideration.

FOR FURTHER INFORMATION CONTACT: Comments regarding this information collection requirement may be directed to James Klemp, Acting Chief, Planning and Analysis Division, Kansas City Commodity Office (KCCO), 6501 Beacon Drive, Kansas City, Missouri 64133-4676, telephone (816) 926-6509 or fax (816) 926-1648; e-mail JEKLEMP@kcc.usda.gov.

SUPPLEMENTARY INFORMATION: Title: Long Term Contracting System (LTCS).

OMB Number: 0560-New.

Type of Request: Approval of a new collection.

Abstract: The Long Term Contracting System (LTCS) is a web-based application that streamlines the bid entry and evaluation functions for Long-term, Indefinite-Delivery, Indefinite-Quantity (IDIQ) contracts. KCCO will generally issue invitations for bids to purchase commodities for domestic feeding programs on an annual, semi-annual, quarterly, or monthly basis; however, invitations may be issued more frequently, depending on various program requirements. Bid offers will be received, evaluated, and awarded within LTCS. Interested vendors will submit a price per destination for each product, along with their available capacities per delivery period/month, and their answers to specific certification questions. The information collected will be processed through the LTCS bid evaluation program to determine optimal awards. KCCO will analyze the results of the bid evaluation and award contracts to the eligible, responsible and responsive bidders whose offers are most advantageous to USDA in terms of the lowest overall cost. It is necessary to collect the information in order to evaluate bids impartially. The LTCS will automatically tie together monthly allocation contracts with the applicable long-term contract, and since LTCS will access real-time data, users will be able to access up-to-the-minute contract award information. Vendors can access LTCS on-line prior to bid opening time to submit, modify, or withdraw their offers. The automated process of LTCS will significantly reduce the chance for errors in awards and reduce recordkeeping errors associated with the current manual process of tracking contract data.

Estimate of Burden: Public reporting burden for collecting information under this notice is estimated to average 2 hours per response.

Respondents: Interested vendors; currently, cheese and pudding vendors.

Respondents: 20.

Estimated Number of Annual Responses per Respondent: 2.

Estimated Total Annual Burden on Respondents: 80 hours.

Proposed topics for comment include: (a) Whether the collection of information is necessary for the proper performance of the functions of the agency, including whether the information will have practical utility; (b) the accuracy of the agency's estimate of burden including the validity of the methodology and assumptions used; (c) ways to enhance the quality, utility, and clarity of the information collected; or (d) ways to minimize the burden of the collection of the information on those who are to respond, including through the use of appropriate automated, electronic, mechanical, or other technological collection techniques or other forms of information technology. Comments regarding this information collection requirement may be directed to the Office of Information and Regulatory Affairs, Office of Management and Budget (OMB), Attention: Desk Officer for USDA, Washington, DC 20503, and to James Klemp, Acting Chief, Planning and Analysis Division, Kansas City Commodity Office, 6501 Beacon Drive, Kansas City, Missouri 64133-4676. All comments will become a matter of public record.

OMB is required to make a decision concerning the collection(s) of information contained in these proposed regulations between 30 and 60 days after publication of this document in the Federal Register. Therefore, a comment to OMB is best assured of having its full effect if OMB receives it within 30 days of publication.

Signed at Washington, DC, on November 30, 2004.
James R. Little,
Executive Vice President, Commodity Credit Corporation.

[FR Doc. 04-26873 Filed 12-7-04; 8:45 am]

BILLING CODE 3410-05-P